DEPARTMENT OF THE INTERIOR

National Park Service

[NPS-WASO-NAGPRA-NPS0038303; PPWOCRADN0-PCU00RP14.R50000]

Notice of Inventory Completion: David A. Fredrickson Archaeological Collections Facility at Sonoma State University, Rohnert Park, CA

AGENCY: National Park Service, Interior.

ACTION: Notice.

SUMMARY: In accordance with the Native American Graves Protection and Repatriation Act (NAGPRA), Sonoma State University has completed an inventory of human remains and associated funerary objects and has determined that there is a cultural affiliation between the human remains and associated funerary objects and Indian Tribes or Native Hawaiian organizations in this notice.

DATES: Repatriation of the human remains and associated funerary objects in this notice may occur on or after August 19, 2024.

ADDRESSES: Doshia Dodd, Sonoma State University, 1801 East Cotati Avenue, Rohnert Park, CA 94928, telephone (530) 514-8472, email Doshia.dodd@sonoma.edu.

SUPPLEMENTARY INFORMATION: This notice is published as part of the National Park Service's administrative responsibilities under NAGPRA. The determinations in this notice are the sole responsibility of Sonoma State University, and additional information on the determinations in this notice, including the results of consultation, can be found in its inventory or related records. The National Park Service is not responsible for the determinations in this notice.

Abstract of Information Available

CA-MRN 201, CA-MRN-202, and CA-MRN-363 are located on a peninsula along the shoreline of Tomales Bay, on the eastern shore toward the bay's northern end, within the Audubon Canyon Ranch Tom's Point Preserve. The collections are the result of previous excavations at the sites. During analysis of cultural items from CA-MRN-202, ancestral remains were identified. The Federated Indians of Graton Rancheria, California were notified regarding this identification. They determined that all three collections would be accessioned into the holdings of Sonoma State University (SSU), with the understanding that they would request repatriation of the remains, and the cultural items from all three collections, in the future. The three collections have been housed at SSU since September 2022, under the following accession numbers: CA-MRN-201; Accession Number 2018-19; CA-MRN-202; Accession Number 2018-20; and CA-MRN-363, Accession Number 2018-21.

Based on the information available, human remains representing, at least, one individual removed from CA-MRN-202 in Marin County, California, have been reasonably identified. The 8,456 associated funerary objects removed from CA-MRN-202 are groundstone, unmodified shell, modified shell, soil samples, faunal, flaked tools and debitage, and historic material. The 769 associated funerary objects removed from CA-MRN-201 are a shell bead, glass beads, flaked glass tools, groundstone, unmodified shell, faunal, flaked tools and debitage, and historic material. The 1,992 associated funerary objects removed from CA-MRN-363 are groundstone, unmodified shell, modified shell, soil samples, faunal, flaked tools and debitage. Based on records concerning the associated funerary objects and the institution in which they were housed, there is no evidence of the three lots of cultural items being treated with hazardous substances.

Cultural Affiliation

Based on the information available and the results of consultation, cultural affiliation is clearly identified by the information available about the associated funerary objects described in this notice.

Determinations

The Sonoma State University has determined that:

• The human remains described in this notice represent the physical remains of one individual of Native American ancestry.

• The 11,217 objects described in this notice are reasonably believed to have been placed intentionally with or near individual human remains at the time of death or later as part of the death rite or ceremony.

• There is a connection between the human remains and associated funerary objects described in this notice and the Federated Indians of Graton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 19, 2024. If competing requests for repatriation are received, Sonoma State University must determine the most appropriate requestor prior to repatriation. Requests for joint repatriation of the human remains and associated funerary objects are considered a single request and not competing requests. The Sonoma State University is responsible for sending a copy of this notice to the Indian Tribes and Native Hawaiian organizations identified in this notice.

Authority: Native American Graves Protection and Repatriation Act, 25 U.S.C. 3003, and the implementing regulations, 43 CFR 10.10.

Dated: July 10, 2024.
Melanie O'Brien,
Manager, National NAGPRA Program.

[FR Doc. 2024-15898 Filed 7-18-24; 8:45 am]

BILLING CODE 4312-52-P